DEPARTMENT OF AGRICULTURE

Forest Service

Grand Mesa-Uncompahgre-Gunnison National Forests; Dry Fork Federal Coal Lease-by-Application (COC-67232)

AGENCY: Forest Service, USDA.

ACTION: Notice of intent to prepare an environmental impact statement.

SUMMARY: The Forest Service (FS) will prepare an Environmental Impact Statement (EIS) to disclose the environmental and human effects of underground coal mining within the Dry Fork Lease-by-Application area, and to identify terms and conditions needed to protect non-mineral resources consistent with the Grand Mesa, Uncompahgre and Gunnison (GMUG) National Forests Land and Resource Management Plan (Forest Plan). ArkLand Company of St. Louis, MO submitted a competitive coal lease-by-application (LBA) to the BLM—Colorado State office for about 1,517 acres of federal coal reserves. Named the Dry Fork LBA tract (Dry Fork tract), the application is for lands generally located in Sections 35 and 36, T 13 S, R 90 W; and Sections 1, 2, 11 and 12, T 14 S, R 90W, 6th PM, in Gunnison County, about 4 miles southeast of Somerset, Colorado. The land surface is National Forest System lands administered by the GMUG, and the mineral estate is administered by the BLM.

The FS and cooperating agencies will conduct the environmental analysis considering the most likely mining scenarios and reasonably foreseeable alternatives. Under the requirements of the Mineral Leasing Act, as amended by the Federal Coal Leasing Amendments Act, the FS will identify terms and conditions for the protection of non-mineral resources. This would allow identification of the measures required for minimizing effects to non-mineral resources consistent with the Forest Plan, and provide a basis for a reasonable estimate of the tract's recoverable coal reserves. The proposed action is to consider the lands in the tract for leasing by competitive bid and subsequent mining by underground methods; identify terms and conditions necessary for the protection of non-mineral resources; and to concur to any subsequent mining and reclamation plan(s).

The EIS process for this project will include preparation of a reasonably foreseeable mining scenario for the Dry Fork tract that will be used as the basis for determining effects. The most likely access to the coal reserves would be through the existing West Elk Mine. Mining would be entirely underground, using predominantly longwall methods. Surface disturbance during the life of the lease will likely include several exploration drill holes and methane drainage wells, with associated road construction. The disturbed areas would be reclaimed when no longer needed. Land subsidence similar to that experienced over other areas mined with underground methods in the adjacent and surrounding areas is expected.

The Forest Service is seeking information and comments from Federal, State, and local agencies as well as individuals and organizations who may be interested in, or affected by, the proposed action. The agency invites written comments and suggestions on the issues related to the proposed action and the area being analyzed. Information received will be used to prepare the Draft and Final EIS and to make the agency decision.

DATES: Comments concerning the scope of the analysis must be received within 30 days from the date of publication of this notice in the Federal Register. The draft environmental impact statement is expected January 2005 and the final environmental impact statement is expected June 2005.

ADDRESSES: Send written comments to Forest Supervisor, Grand Mesa, Uncompahgre and Gunnison National Forests, 2250 Highway 50, Delta, CO 81416, ATTN: Liane Mattson, Leaseable Minerals Program Leader. Fax may be sent to (970) 874-6698. Telephone (970) 874-6697.

FOR FURTHER INFORMATION CONTACT: Questions concerning the proposed action and EIS should be addressed to Liane Mattson, Grand Mesa, Uncompahgre and Gunnison National Forests, phone (970) 874-6697, or lmattson@fs.fed.us.

SUPPLEMENTARY INFORMATION:

Purpose and Need for Action

The purpose and need for the action is to lease additional Federal coal reserves in the Dry Fork LBA tract for economic development and production of the coal, consistent with applicable laws and regulations.

Proposed Action

The proposed action is to consent to leasing National Forest System lands in the Dry Fork LBA tract for development and production of federal coal reserves, consistent with applicable laws and regulations, including terms and conditions for protecting non-coal resources.

Lead and Cooperating Agencies

The USDA, Forest Service will be the lead agency. The USDI, Bureau of Land Management and the USDI-Office of Surface Mining Reclamation and Enforcement will participate as cooperating agencies.

Responsible Official

The Responsible Forest Service Official is the Grand Mesa, Uncompahgre and Gunnison National Forest Supervisor (now vacant), 2250 Highway 50, Delta, CO 81416.

Nature of Decision To Be Made

The decision to be made is whether or not to consent to the BLM offering for lease of federal coal reserves in the Dry Fork LBA tract, and to prescribe conditions for the protection of non-coal resources.

Scoping Process

Scoping will include mailing letters to known interested parties on the GMUG mailing list, publishing a legal notice in the Grand Junction Sentinel, and presenting the proposal to local coal activity interest groups.

Preliminary Issues

Issues and alternatives to be evaluated in the analysis will be determined through scoping. The primary issues are expected to include: The socioeconomic benefits of mining, effects of transporting the coal, and the potential impacts of underground mining and mining-induced subsidence on surface and ground water resources (including perennial streams); wildlife (including threatened, endangered, sensitive and management indicator species); topographic surface, land stability, soils and geologic hazards; vegetation (including impacts to riparian vegetation and associated habitat); cultural resources; existing land uses, including recreation, roadless character, existing roads/facilities, visual resources and livestock management, and cumulative impacts. Direct, indirect and cumulative impacts (when considered together with past, present and reasonable foreseeable cumulative actions in the area) effects, will be disclosed.

Comment Requested

This notice of intent initiates the scoping proces which guides the development of the environmental impact statement. Agency representatives and other interested people are invited to visit with Forest Service at any time during the EIS process. Two specific time periods are identified for the receipt of comments on the proposal. The two comment periods are, (1) during the scoping process, the next 30 days following publication of this Notice in the Federal Register, and (2) during the formal review period of the Draft EIS.

Early Notice of Importance of Public Participation in Subsequent Environmental Review: A draft environmental impact statement will be prepared for comment. The comment period on the draft environmental impact statement will be 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the Draft EIS comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Also, comment during this 45-day comment period is required to establish eligibility to appeal the final decision under 36 CFR part 215.

Dated: June 3, 2004.
Larry M. Hill,
Acting Forest Supervisor.

[FR Doc. 04-13503 Filed 6-15-04; 8:45 am]

BILLING CODE 3410-11-P